DEPARTMENT OF COMMERCE

Foreign-Trade Zones Board

[B-27-2014]

Proposed Foreign-Trade Zone—Lake County, Florida, Under Alternative Site Framework

An application has been submitted to the Foreign-Trade Zones (FTZ) Board by the City of Leesburg to establish a foreign-trade zone within Lake County, Florida, adjacent to the Leesburg Customs and Border Protection (CBP) user fee airport, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on March 21, 2014. The applicant is authorized to make the proposal under Florida Statutes, Title XIX, Chapter 288, Part III.

The applicant's proposed service area under the ASF would be Lake County, Florida. If approved, the applicant would be able to serve sites throughout the service area based on companies' needs for FTZ designation. The proposed service area is within and adjacent to the Leesburg CBP user fee airport.

The proposed zone would include two “magnet” sites: Proposed Site 1 (818 acres)—Leesburg International Airport, 8807 Airport Boulevard, Leesburg; and, Proposed Site 2 (662 acres)—Leesburg Industrial and Technology Park, located north of County Road 48, east of the Florida Turnpike, and north and south of County Road 470, Leesburg. The ASF allows for the possible exemption of one magnet site from the “sunset” time limits that generally apply to sites under the ASF, and the applicant proposes that Site 1 be so exempted.

The application indicates a need for zone services in the Lake County, Florida, area. Several firms have indicated an interest in using zone procedures for warehousing/distribution activities for a variety of products. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is May 27, 2014. Rebuttal comments in response to material submitted during the foregoing period may be submitted during the subsequent 15-day period to June 10, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or at (202) 482-2350.

Dated: March 21, 2014.
Andrew McGilvray,
Executive Secretary.

[FR Doc. 2014-06833 Filed 3-26-14; 8:45 am]

BILLING CODE 3510-DS-P